Title 3—

The President

Proclamation 8072 of October 18, 2006

50th Anniversary of the Hungarian Revolution

By the President of the United States of America

A Proclamation

On the 50th anniversary of the Hungarian Revolution, we celebrate the Hungarians who defied an empire to demand their liberty, we recognize the friendship between the United States and Hungary, and we reaffirm our shared desire to spread freedom to people around the world.

The story of Hungarian democracy represents the triumph of liberty over tyranny. In the fall of 1956, the Hungarian people demanded change, and tens of thousands of students, workers, and other citizens bravely marched through the streets to call for freedom. Though Soviet tanks brutally crushed the Hungarian uprising, the thirst for freedom lived on, and in 1989 Hungary became the first communist nation in Europe to make the transition to democracy. The lesson of the Hungarian experience is clear: liberty can be delayed, but it cannot be denied. Today, this beautiful country has held democratic elections, established a free economy, and inspired millions around the world.

The United States is grateful for the warm relationship between our countries and for Hungary's efforts to expand freedom and democracy around the world in places such as the Balkans, Iraq, Afghanistan, and Cuba. By spreading the blessings of liberty, Hungary is helping to lay the foundation of peace for generations to come.

As we celebrate this anniversary, we also recognize the many ways Hungarian Americans have enriched and strengthened our country. Their spirit and hard work have contributed to the vitality, success, and prosperity of our Nation, and we continue to be inspired by their courage and conviction.

NOW, THEREFORE, I, GEORGE W. BUSH, President of the United States of America, by virtue of the authority vested in me by the Constitution and laws of the United States, do hereby proclaim October 23, 2006, as a day of recognition in honor of the 50th Anniversary of the Hungarian Revolution. I encourage all Americans to observe this day with appropriate ceremonies and activities.

IN WITNESS WHEREOF, I have hereunto set my hand this eighteenth day of October, in the year of our Lord two thousand six, and of the Independence of the United States of America the two hundred and thirty-first.

[FR Doc. 06-8854

Filed 10-20-06; 8:45 am]

Billing code 3195-01-P